DEPARTMENT OF AGRICULTURE

Agricultural Marketing Service

[Document No. AMS-DA-09-0058]

Dairy Industry Advisory Committee

AGENCY: Agricultural Marketing Service.

ACTION: Notice of Intent to establish the U.S. Department of Agriculture (USDA) Dairy Industry Advisory Committee and a Request for Nominations.

SUMMARY: The USDA intends to establish the Dairy Industry Advisory Committee (Committee). The purpose of the Committee is to review the issues of farm milk price volatility and dairy farmer profitability and provide suggestions and ideas to the Secretary on how USDA can best address these issues to meet the dairy industry's needs. USDA also seeks nominations of individuals to be considered for selection as Committee members.

DATES: Written nominations must be received on or before September 28, 2009.

ADDRESSES: Nominations should be sent to Brandon Willis, Deputy Administrator, Farm Programs, Farm Service Agency, USDA, 1400 Independence Avenue, SW., Room 3612-S, Stop 0510, Washington, DC 20250-0510; Facsimile: (202) 720-4726; E-mail: brandon.willis@usda.gov.

FOR FURTHER INFORMATION CONTACT: Solomon Whitfield, Designated Federal Official; Phone: (202) 720-7901; E-mail: solomon.whitfield@usda.gov.

SUPPLEMENTARY INFORMATION: Pursuant to the Federal Advisory Committee Act (FACA) (5 U.S.C. App. II), notice is hereby given that the Secretary of Agriculture intends to establish the Committee for two years. The purpose of the Committee is to review the issues of: (1) Farm milk price volatility and (2) dairy farmer profitability and provide suggestions and ideas to the Secretary on how USDA can best address these issues to meet the dairy industry's needs.

The Deputy Administrator of the Farm Service Agency's Farm Programs will serve as the Committee's Executive Secretary. Representatives from USDA mission areas and agencies affecting the dairy industry will participate in the Committee's meetings as determined by the Committee Chairperson.

The Secretary of Agriculture will appoint industry members to serve 2-year terms. Membership will consist of up to fifteen (15) members representing various dairy industry groups including: producers and producer organizations, processors and processor organizations, handlers, consumers, academia, retailers, and state agencies involved in organic and non-organic dairy at the local, regional, national and international levels. The members of the established Committee will elect the Chairperson and Vice Chairperson of the Committee. In the absence of the Chairperson, the Vice-Chairperson will act in the Chairperson's stead.

The Secretary of Agriculture invites those individuals, organizations, and groups affiliated with the categories listed above to nominate individuals for membership on the established Committee. Nominations should describe and document the proposed member's qualifications for membership to the Committee, and list their name, title, address, telephone, and fax number. The Secretary of Agriculture seeks a diverse group of members representing a broad spectrum of persons interested in providing suggestions and ideas on how USDA can tailor its programs to meet the dairy industry's needs.

USDA will provide individuals who are nominated with the necessary forms for membership. The biographical information and clearance forms must be completed and returned to USDA within 10 working days of notification, to expedite the requisite clearance process before the Secretary of Agriculture selects Committee members. Equal opportunity practices will be followed in all appointments to the Committee in accordance with USDA policies. To ensure that the recommendations of the Committee have taken into account the needs of the diverse groups served by USDA, membership shall include, to the extent practicable, individuals with demonstrated ability to represent minorities, women, persons with disabilities, and limited resource agriculture producers.

Dated: August 24, 2009.
Jonathan Coppess,
Administrator, Farm Service Agency.

[FR Doc. E9-20733 Filed 8-25-09; 11:15 am]

BILLING CODE P